PRESIDIO TRUST

Notice To Terminate the Environmental Impact Statement Process, Public Museum at the Presidio; and Notice of Intent To Prepare a Supplemental Environmental Impact Statement and Conduct Scoping, Proposed Changes to the May 2002 Presidio Trust Management Plan, Main Post District

AGENCY: The Presidio Trust.

ACTION: Notice to terminate an Environmental Impact Statement Process and notice of intent to supplement an Environmental Impact Statement.

SUMMARY: Pursuant to Section 102(2)(c) of the National Environmental Policy Act (NEPA) of 1969, as amended (Pub. L. 91-190, 42 U.S.C. 4321 et seq.) and in response to public comment, the Presidio Trust (Trust) is notifying interested parties that it will: (1) Terminate the Environmental Impact Statement (EIS) process for the Presidio Museum in the Main Post district of the Presidio of San Francisco, California (Presidio), (2) supplement the final EIS for the May 2002 Presidio Trust Management Plan (PTMP) to consider proposed changes in the actions analyzed for the Main Post district in the original NEPA document; and (3) engage in a scoping process to seek public input on the supplemental EIS. The supplemental EIS will address the environmental impacts of various proposals that would modify previous Trust decisions regarding the Main Post district. The public scoping process will determine the range of actions, alternatives and impacts to be considered in the supplemental EIS.

DATES: Written comments or suggestions to assist in identifying any significant environmental issues and in determining the appropriate scope of the supplemental EIS should be submitted on or before December 15, 2007. A public meeting will be held on November 21, 2007 beginning at 6:30 p.m., at the Presidio Officers' Club (50 Moraga Avenue) to accept comments on the scope of the supplemental EIS.

ADDRESSES: Electronic comments concerning this notice should be sent to Mainpost@presidiotrust.gov. Written comments may be faxed to Main Post at 415.561.5308. Written comments may also be submitted to Main Post, Attn: Compliance Coordinator, The Presidio Trust, 34 Graham Street, P.O. Box 29052, San Francisco, CA 94129-0052. Comments previously received regarding the Presidio Museum EIS or the Presidio Lodge Environmental Assessment (EA) need not be repeated; these comments will inform the Trust's preparation of the supplemental EIS. Please be aware that all written comments and information submitted will be made available to the public, including, without limitation, any postal address, e-mail address, phone number, or other information contained in each submission.

SUPPLEMENTARY INFORMATION: In the Federal Register notice of August 14, 2007 (72 FR 45469), the Trust notified interested parties it was preparing an EIS for a proposed museum at the Main Post, and that the agency was seeking public input through scoping. On September 24, 2007, the Trust held a public meeting on the scope of the EIS at which 24 members of the public spoke. Before scoping ended on October 15, 2007, the Trust received 86 comment letters and electronic mails, including one petition with over 125 signatures (on file and available for public review in the Trust library). Several of the interested parties urged that the proposed museum, when viewed with other proposed actions, would have cumulatively significant impacts on the environment and should therefore be addressed in a single EIS. The Trust is responding to this public concern in its decision to supplement the final PTMP EIS in which it will assess the cumulative impacts of all reasonably foreseeable Trust actions at the Main Post. The Trust has elected to take a fresh look at this broader scope in order to better meet its NEPA compliance responsibilities and to engage more effectively the public in its decision making.

The Trust will supplement the final PTMP EIS to take into account new circumstances or information that is relevant to the Main Post. The subsequent analysis will provide a procedural framework for dealing with upcoming decisions at the Main Post. Proposed changes in the actions analyzed at the Main Post in the final PTMP EIS that will be reviewed in the supplemental EIS include the Presidio Museum, the Presidio Lodge (the EA for which is also being terminated through this notice), other potential building construction or demolition within the district, the El Presidio site, and parking and circulation improvements. The Trust intends to proceed with the signature of the Finding of No Significant Impact (FONSI) for the Main Parade EA as well as the International Center to End Violence (Building 100) FONSI as these proposed actions are consistent with the PTMP, are independently justified, do not involve significant impacts, and would not prejudice other decisions on the Main Post.

Alternatives to be considered for analysis in the supplemental EIS include the planning concept set forth in the PTMP for the Main Post (PTMP action), an updated planning concept for the Main Post based on new information arising after the PTMP (proposed action), and minimal planning (no action). Potential impacts to be evaluated in the supplemental EIS include those on parking and traffic, visual resources, those to the National Historic Landmark district, and cumulative impacts. Compliance with Section 106 of the National Historic Preservation Act will be a component of the supplemental EIS utilizing the public input, alternatives development and assessment processes to address historic preservation requirements.

The availability of the draft supplemental EIS (expected to occur in mid 2008) for comment will be announced through an EPA-published notice in the Federal Register, through postings on the Trust's Web site at http://www.presidio.gov and regular electronic newsletter (Presidio E-news), as well as direct mailing to the project mailing list and other appropriate means.

FOR FURTHER INFORMATION CONTACT: John Pelka, NEPA Compliance Coordinator, 415.561.5300.

Dated: October 23, 2007.
Karen A. Cook,
General Counsel.

[FR Doc. E7-21277 Filed 10-26-07; 8:45 am]

BILLING CODE 4310-4R-P